DEPARTMENT OF AGRICULTURE

Animal and Plant Health Inspection Service

[Docket No. APHIS-2020-0016]

Privacy Act of 1974; System of Records

AGENCY: Animal and Plant Health Inspection Service, USDA.

ACTION: Notice of a modified system of records.

SUMMARY: Pursuant to the Privacy Act of 1974 and Office of Management and Budget Circular No. A-108, the U.S. Department of Agriculture (USDA) gives notice that an agency component, the Animal and Plant Health Inspection Service (APHIS), proposes to modify an existing system of records notice titled, APHIS Animal Health Surveillance and Monitoring System, USDA/APHIS-15. Among other changes, the system will be renamed Animal Health, Disease, and Pest Surveillance and Management System, USDA/APHIS-15. This system is used by APHIS to collect, manage, and evaluate animal health data for disease and pest control and surveillance programs.

DATES: In accordance with 5 U.S.C. 552a(e)(4) and (11), this notice will become applicable upon publication, subject to a 30-day notice and comment period in which to comment on the routine uses described in the routine uses section of this system of records notice. Please submit any comments by May 3, 2024.

ADDRESSES: You may submit comments by either of the following methods:

• Federal eRulemaking Portal: Go to http://www.regulations.gov. Enter APHIS-2020-0016 in the Search field. Select the Documents tab, then select the Comment button in the list of documents.

• Postal Mail/Commercial Delivery: Please send one copy of your comment to Docket No. APHIS-2020-0016, Regulatory Analysis and Development, PPD, APHIS, Station 3A-03.8, 4700 River Road Unit 118, Riverdale, MD 20737-1238.

Any comments we receive on this docket may be viewed at http://www.regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For general questions, please contact Mr. Chris Quatrano, CFI Director, Center for Informatics, Center for Epidemiology and Animal Health, VS, APHIS, USDA, 2150 Centre Ave., Bldg. B, Fort Collins, CO 80526; vs.dataservices@usda.gov. For Privacy Act questions concerning this system of records notice, please contact Director, Freedom of Information and Privacy Act Staff, 4700 River Road Unit 50, Riverdale, MD 20737; (301) 851-4076; email: APHISPrivacy@usda.gov. For USDA Privacy Act questions, please contact the USDA Chief Privacy Officer, Information Security Center, Office of Chief Information Officer, USDA, Jamie L. Whitten Building, 1400 Independence Ave. SW, Washington, DC 20250; email: USDAPrivacy@usda.gov.

SUPPLEMENTARY INFORMATION: The U.S. Department of Agriculture (USDA) Animal and Plant Health Inspection Service (APHIS) is modifying an existing system of records notice for the APHIS Animal Health Surveillance and Monitoring System, USDA/APHIS-15, which was last published on November 28, 2011, in its entirety in the Federal Register (76 FR 72897-72900, Docket No. APHIS-2010-0007). APHIS is modifying the system of records notice to rename the system as “Animal Health, Disease, and Pest Surveillance and Management System, USDA/APHIS-15.” Also, APHIS is expanding the system to include records of activities maintained in the Comprehensive and Integrated Animal Health Surveillance System (CIAHSS), which consists of multiple information technology platforms that exchanges data and that contains animal health and surveillance data. Expansion of the system also includes any electronic or hard copies of forms or other records used to enter data into CIAHSS or that may be saved in a CIAHSS application.

In addition to the above, APHIS is making the following changes to the system of records:

• Updating the system location and system manager;

• Updating the authority for maintenance of the system to remove reference to the Bovine Johne's Disease Control Program (7 U.S.C. 7629), which was repealed on February 7, 2014, and add references to the Farm Security and Rural Investment Act of 2002, 7 U.S.C. 7901 et seq., the Homeland Security Presidential Directives 7 and 9, and Farm Bills (The Farm Bill is an omnibus, multiyear law that governs an array of agricultural and food programs. Titles in a recent farm bill encompassed farm commodity revenue supports, agricultural conservation, trade and foreign food assistance, farm credit, research, rural development, forestry, bioenergy, horticulture, and domestic nutrition assistance. Typically renewed about every 5 or 6 years by Congress, the Farm Bill provides a predictable opportunity for policymakers to comprehensively and periodically address agricultural and food issues);

• Updating the purpose of the system to further explain the purpose of the system and the use of the information collected by the system;

• Expanding the categories of individuals to include additional individuals who participate in animal disease or pest prevention, surveillance, management, and animal disease emergency activities, and those who are mentioned or referenced in any documents entered into USDA/APHIS-15 by a user (such as, vendors, industry, agents, other business personnel, etc.);

• Expanding the categories of records to include additional records relating to animal disease or pest prevention, surveillance, management, and animal disease emergency activities;

• Revising the record source categories to more accurately identify the sources of information maintained in the system;

• Updating the policies and practices for storage, retrievability, and retention and disposal of records in the system;

• Updating the system safeguards;

• Updating the notification, record access, and contesting record procedures; and

• Providing an updated full list of routine uses in the routine uses section of the document published with this notice.

SYSTEM NAME AND NUMBER:

Animal Health, Disease, and Pest Surveillance and Management System, USDA/APHIS-15.

SECURITY CLASSIFICATION:

Unclassified.

SYSTEM LOCATION:

Paper files are held at the Animal and Plant Health Inspection Service's (APHIS) Veterinary Services (VS) national, district, field offices, and laboratories. Electronic files are stored and maintained electronically on secure U.S. Department of Agriculture (USDA)-owned and operated servers located at 4700 River Road, Riverdale, MD 20737; 920 Main Campus Drive, Suite 200, Raleigh, NC 27606; and 2150 Centre Ave., Bldg. B, Fort Collins, CO 80526. Files are also kept on the originator's computer. In some cases, copies may be stored as part of an email on USDA email servers and in the email archive. The applications/systems are housed within Microsoft Azure Cloud, and personally identifiable information data is shared with Amazon Web Services via interconnection with the VS Data Integration Services (VS DIS) system.

SYSTEM MANAGER(S):

For National Animal Health Reporting System and Laboratory Messaging Service: National Animal Health Laboratory Network Coordinator, Diagnostics and Biologics, VS, APHIS, USDA, 2150 Centre Ave., Bldg. B, MSC 3E13, Fort Collins, CO 80526-8117.

For Veterinary Services Laboratory Submission Service, Surveillance Collaborative Services (includes Mobile Information Management, Mi-Corporation, and National Animal Health Reporting), VS Integration Surveillance Modules and the CS Analytics Warehouse component, VS DIS, Data Integration and Reporting Software, other related systems, and paper and electronic records not in application databases: Director, Center for Informatics, VS, APHIS, USDA, 2150 Centre Ave., Bldg. B, MSC 3E13, Fort Collins, CO 80526-8117.

AUTHORITY FOR MAINTENANCE OF THE SYSTEM:

• The Animal Damage Control Act of 1931, 7 U.S.C. 8351 et seq.;

• The Animal Health Protection Act, 7 U.S.C. 8301-8317;

• The Farm Security and Rural Investment Act of 2002, 7 U.S.C. 7901 et seq.;

• Public Health Security and Bioterrorism Preparedness and Response Act of 2002, 116 Stat. 674-678;

• Homeland Security Presidential Directive 7: Critical Infrastructure Identification, Prioritization, and Protection;

• Homeland Security Presidential Directive 9: Defense of United States Agriculture and Food; and

• Farm Bills, as required, (The Farm Bill is an omnibus, multiyear law that governs an array of agricultural and food programs. Titles in a recent farm bill encompassed farm commodity revenue supports, agricultural conservation, trade and foreign food assistance, farm credit, research, rural development, forestry, bioenergy, horticulture, and domestic nutrition assistance. Typically renewed about every 5 or 6 years by Congress, the Farm Bill provides a predictable opportunity for policymakers to comprehensively and periodically address agricultural and food issues).

PURPOSE(S) OF THE SYSTEM:

The Animal Health, Disease, and Pest Surveillance and Management System supports VS' mission of protecting and improving the health, quality, and marketability of animals within the United States and response to animal health emergencies. The information is collected and stored to support animal health, disease, and pest surveillance and management activities that VS administers in cooperation with the States and Tribes. VS and its State and Tribal partners (or their cooperators and contractors) enter and maintain the data in the system to effectively manage animal health programs and disease and pest surveillance programs. This system allows for monitoring, early detection, and response to domestic, emerging, and foreign animal diseases or pests of concern such as viral hemorrhagic septicemia, brucellosis, tuberculosis, chronic wasting disease, pseudorabies, scrapie, bovine spongiform encephalopathy, classical swine fever, cattle fever ticks, screwworms, avian influenza, etc.

CATEGORIES OF INDIVIDUALS COVERED BY THE SYSTEM:

Individuals covered in this system include individuals identified as animal premises owners or managers, livestock haulers, individuals involved in animal production, movement, marketing, rendering, slaughter, product processing or points of contact for these categories, and all other individuals that are covered by the regulated activity of APHIS animal health or disease or pest surveillance, monitoring, or control program; collectors or submitters of samples for testing; USDA and State/Tribal animal health employees and their contractors or cooperators with signed agreements; Federal, State/Tribal, and local public health employees and their contractors or cooperators with signed agreements working with USDA on zoonotic disease activities; Federal, State/Tribal, and local wildlife agency employees and their contractors or cooperators with signed agreements working with USDA on diseases affecting both wild and domestic animals; and accredited and other veterinarians and their employees working with USDA or covered entities or animals. In addition, individuals, even if they are not users of the Animal Health, Disease, and Pest Surveillance and Management System, who are mentioned or referenced in any documents entered into USDA/APHIS-15 by a user are also covered. This group may include vendors, industry, agents, and other business personnel.

CATEGORIES OF RECORDS IN THE SYSTEM:

The categories of records include:

Contact information: This is information that may be used to contact individuals for official purposes such as disease investigation or follow up. Contact information may include, names, phone numbers, physical addresses, mailing addresses, or electronic mail addresses. Individuals' information may also include their roles such as owners, managers, employees, or representatives of animals, animal premises, and animal related businesses; veterinarians; contractors and cooperators; and local, State, Tribal, or Federal officials, including APHIS officials.

Animal or herd health status: Historical or current information relating to the exposure, infection, or infestation status of an animal or group of animals. These records may include observations for presence or absence of clinical signs; laboratory test orders and results; disease or pest elimination or treatment plans; vaccination plans; and records of participation in and compliance with a disease or pest management, health management, or certification program and associated activities. These records may also include information about the pathogens or pests identified, such as antibiotic resistance or pathogen or pest genetic data.

Animal, herd or operation characteristics: Information about animal or herd characteristics and management practices, which may be associated with different disease spread risks. This may include the type of business operation, species, breeds, classes, and ages of animals, intended uses, and animal inventories or estimated or observed numbers of animals present. This also includes activities such as livestock shipping or other animal relocations.

Dates and times: Specific dates or date ranges or times of activities, events or planned events, such as, specimen collection and testing, observations of clinical signs or environmental conditions, vaccination, treatment, inspections or other visits, animal or specimen shipments, start and end dates of program participation, or dates and times when changes were made in animal or herd health status.

Identifiers: Codes, numbers, or descriptions used to connect data about entities such as, animals, groups of animals, premises, biological specimens, or test results. Identifiers can include flock or premises identification numbers; animal identification numbers such as ear tag or other identification device numbers, implant or tattoo numbers, brands, animal group or lot numbers; accredited veterinarian numbers; veterinary license numbers; and specimen numbers.

Location: Information about where an activity or event took place, or where a premises or animal is or was. This may include a physical address, geographic coordinates, county, State, ZIP Code, plat map references, or distances from other premises or landmarks.

Operational records: These records include animal health activities that include State, Tribal, or Federal visits, inspections, vaccination, treatments, application of official identification and testing performed by VS employees, State animal health employees, contractors, cooperators, or veterinarians. This information can also include personnel and other resources involved, and numbers and types of samples collected.

Miscellaneous: This information may include narrative reports, such as epidemiological reports or herd histories and disease elimination or management plans for specific herds or premises.

RECORD SOURCE CATEGORIES:

Sources of information for this system include USDA and State/Tribal animal health employees and their contractors or cooperators with signed agreements; Federal, State/Tribal, and local public health employees and their contractors or cooperators with signed agreements working with USDA on zoonotic disease activities. Federal, State/Tribal, and local wildlife agency employees and their contractors or cooperators with signed agreements working with USDA on diseases affecting both wild and domestic animals; individuals identified as owners, managers, or contacts for premises (locations), groups of animals or individual animals, or animal-related businesses or operations involved with or covered by an APHIS animal health or disease or pest surveillance, monitoring, or control program; collectors or submitters of samples for testing; and accredited and other veterinarians and their employees working with covered entities or animals or with USDA.

ROUTINE USES OF RECORDS MAINTAINED IN THE SYSTEM, INCLUDING CATEGORIES OF USERS AND THE PURPOSES OF SUCH USES:

In addition to those disclosures generally permitted under 5 U.S.C. 552a(b) of the Privacy Act, records contained in this system may be disclosed outside USDA as a routine use under 5 U.S.C. 552a(b)(3) to the extent that such uses are compatible with the purposes for which the information was collected. Such permitted routine uses include the following:

(1) To State/Tribal animal health officials and their contractors and other cooperators authorized access by State/Tribal animal health officials, data from their State/Tribe as co-owners of the data to: (a) Collaborate with USDA in conducting, managing, and evaluating animal health, disease, or pest surveillance or control programs, and monitoring for animal health, diseases or pests; (b) aid in containing and responding to a foreign or domestic animal disease or pest outbreak, bioterrorism, or other animal health emergency; (c) disseminate information and solicit feedback on emergency preparedness and response guidelines and the system itself for the purpose of educating and involving these officials in program development, program requirements, and standards of conduct; and (d) States/Tribes may share their information on premises, persons, or animals within their State or Tribe in accordance with State or Tribal laws and regulations via public websites or other means;

(2) To Federal, State/Tribal, or local wildlife agencies to collaborate with USDA in conducting, managing, or evaluating animal health, disease or pest surveillance or control programs, and monitoring for animal health issues, diseases, or pests affecting both wildlife and domestic animals or respond to emergencies impacting wildlife and domestic animals;

(3) To Federal, State/Tribal, or local government agencies involved with public health such as the Departments of Health and Human Services and Homeland Security (DHS) for the purposes of collaborating with USDA to conduct, manage, or evaluate zoonotic disease or pest awareness, surveillance, response or reporting activities, or to respond to emergencies impacting humans and domestic animals;

(4) To any agency, organization, or individual for the purpose of performing audit or oversight operations as authorized by law, but only such information as is necessary and relevant to such audit or oversight function;

(5) To contractors and cooperators and their agents, grantees, experts, consultants, and others performing or working on a contract, service, grant, cooperative agreement, or other assignment for the USDA, when necessary to accomplish an agency function related to this system of records;

(6) To the public through USDA websites: (a) Lists of participants in voluntary animal disease certification or quality assurance programs; (b) lists of individuals or entities not in compliance with animal disease regulations to reduce the potential risk of animal disease spread; and (c) list the herds of origin of exposed or potentially exposed animals when needed to notify individuals who may have acquired exposed or potentially exposed animals when other means of contact are unavailable;

(7) To other individuals when needed to aid in containing or responding to a foreign or domestic animal disease or pest outbreak, bioterrorism, or other animal health emergency;

(8) When a record on its face, or in conjunction with other records indicates a violation or potential violation of law, whether civil, criminal, or regulatory in nature, and whether arising by general statute or particular program, statute, or by regulation, rule, or order issued pursuant thereto, USDA may disclose the record to the appropriate agency, whether Federal, foreign, State, Tribal, local, or other public authority responsible for enforcing, investigating, or prosecuting such violation or charged with enforcing or implementing the statute, rule, regulation, or order issued pursuant thereto, if the information disclosed is relevant to any enforcement, regulatory, investigative, or prosecutive responsibility of the receiving entity;

(9) To the Department of Justice when: (a) USDA or any component thereof; or (b) any employee of USDA in his or her individual capacity, or any employee of the agency in his or her individual capacity where the Department of Justice has agreed to represent the employee; or (c) the United States Government, is a party to litigation or has an interest in such litigation, and USDA determines that the records are relevant and necessary to the litigation and the use of such records by the Department of Justice is deemed by USDA to be for a purpose that is compatible with the purpose for which USDA collected the records;

(10) In an appropriate proceeding before a court, grand jury, or administrative or adjudicative body or official, when USDA or other Agency representing USDA determines that the records are both relevant and necessary to the proceeding; or in an appropriate proceeding before an administrative or adjudicative body when the adjudicator determines the records to be relevant to the proceeding;

(11) To appropriate agencies, entities, and persons when: (a) USDA suspects or has confirmed that there has been a breach of the system of records; (b) USDA has determined that as a result of the suspected or confirmed breach there is a risk of harm to individuals, USDA (including its information systems, programs, and operations), the Federal Government, or national security; and (c) the disclosure made to such agencies, entities, and persons is reasonably necessary to assist in connection with USDA's efforts to respond to the suspected or confirmed compromise and to prevent, minimize, or remedy such harm;

(12) To another Federal agency or Federal entity, when information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach;

(13) To a Congressional office in response to an inquiry from that Congressional office made at the written request of the individual about whom the records pertain;

(14) To contractors and their agents, grantees, experts, consultants, and others performing or working on a contract, service, grant, cooperative agreement, or other assignment for USDA, when necessary to accomplish an agency function related to this system of records. Individuals providing information under this routine use are subject to the same Privacy Act requirements and limitations on disclosure as are applicable to USDA officers and employees; and

(15) To the National Archives and Records Administration (NARA) or other Federal Government agencies pursuant to records management activities being conducted under 44 U.S.C. 2904 and 2906.

DISCLOSURE TO CONSUMER REPORTING AGENCIES:

None.

POLICIES AND PRACTICES FOR STORAGE OF RECORDS:

Server hard drives are backed up nightly. The Digital Infrastructure Services Center retains incremental and full system tape backups for 1 month. Backup media is regularly sent to an offsite backup storage facility for contingency purposes. The hard copy components of the system, including any paper records, and computer files, tapes, and disks are kept in a safeguarded environment with access only by authorized personnel.

POLICIES AND PRACTICES FOR RETRIEVAL OF RECORDS:

Records can be retrieved by any recorded data field. However, records are mainly retrieved by the first and last name, address, or phone number of the listed contact person for, or the owner or manager of, the premises or animals subject to animal disease control or surveillance programs, animal, flock, herd, sample, or premises numbers.

POLICIES AND PRACTICES FOR RETENTION AND DISPOSAL OF RECORDS:

Records will be retained permanently pending approval of a records retention schedule by the National Archives and Records Administration.

ADMINISTRATIVE, TECHNICAL, AND PHYSICAL SAFEGUARDS:

The system is physically secured in a locked facility accessible only to authorized USDA personnel. Badges are required. Visitors must be accompanied by authorized staff at all times. Data is stored and backed up using protocols established by Digital Infrastructure Service Center (DISC). Access to the records in this system is limited to those individuals who need to know the information to perform their official duties and who have appropriate clearances or permissions. Users must have USDA eAuthentication credentials and sign in using authorized logins and passwords. Annually, all users must undergo information security training and sign rules of behavior. The Information Technology staff must additionally complete specialized role-based training and sign rules of behavior to ensure privacy integrity. Failure to comply with rules of behavior can result in corrective actions, including written reprimands, temporary suspension from duty, reassignment, demotion, or termination, suspension of system privileges, and possible criminal prosecution. The system administrators maintain and monitor audit trails.

The hard copy components of the system, and computer files, tapes, and disks are kept in a safeguarded environment with access only by authorized personnel.

RECORD ACCESS PROCEDURES:

All requests for access to records must be in writing and should be submitted to the APHIS Privacy Act Officer, 4700 River Road Unit 50, Riverdale, MD 20737; or by facsimile (301) 734-5941; or by email APHISPrivacy@usda.gov. In accordance with 7 CFR 1.112 (Procedures for requests pertaining to individual records in a record system), the request must include the full name of the individual making the request; the name of the system of records; and preference of inspection, in person or by mail. In accordance with 7 CFR 1.113, prior to inspection of the records, the requester shall present sufficient identification (e.g., driver's license, employee identification card, credit cards) to establish that the requester is the individual to whom the records pertain. In addition, if an individual submitting a request for access wishes to be supplied with copies of the records by mail, the requester must include with his or her request sufficient data for the agency to verify the requester's identity.

CONTESTING RECORD PROCEDURES:

Individuals seeking to contest or amend records maintained in this system of records must direct their request to the address indicated in the “RECORD ACCESS PROCEDURES” paragraph, above and must follow the procedures set forth in 7 CFR 1.116 (Request for correction or amendment to record). All requests must state clearly and concisely what record is being contested, the reasons for contesting it, and the proposed amendment to the record.

NOTIFICATION PROCEDURES:

Individuals may be notified if a record in this system of records pertains to them when the individuals request information utilizing the same procedures as those identified in the “RECORD ACCESS PROCEDURES” paragraph above.

EXEMPTIONS CLAIMED FOR THE SYSTEM:

None.

HISTORY:

On November 28, 2011 (76 FR 72897, APHIS-2010-0007), USDA/APHIS-15, “APHIS Animal Health Surveillance and Monitoring System,” was published as a new system of records and effective on January 9, 2012.

A report on the modified system of records, required by 5 U.S.C. 552a(r), as implemented by Office of Management and Budget Circular A-108, was sent to the Chairman and Ranking Members of the Senate Committee on Homeland Security and Governmental Affairs, the Chairwoman and Ranking Members of the House Committee on Oversight and Government Reform, and the Administrator, Office of Information and Regulatory Affairs, Office of Management and Budget.

Done in Washington, DC, this 27th day of March 2024.
Michael Watson,
Administrator, Animal and Plant Health Inspection Service.

[FR Doc. 2024-06941 Filed 4-2-24; 8:45 am]

BILLING CODE 3410-34-P